DEPARTMENT OF VETERANS AFFAIRS

[OMB Control No. 2900-NEW (VA Home Loan Guaranty Program Evaluation)]

Agency Information Collection Activities Under OMB Review

AGENCY: Office of Policy and Planning, Department of Veterans Affairs.

ACTION: Notice.

SUMMARY: In compliance with the Paperwork Reduction Act (PRA) of 1995 (44 U.S.C. 3501 et seq.), this notice announces that the Office of Policy and Planning (OPPA), Department of Veterans Affairs, has submitted the collection of information abstracted below to the Office of Management and Budget (OMB) for review and comment. The PRA submission describes the nature of the information collection and its expected cost and burden; it includes the actual data collection instrument.

DATES: Comments must be submitted on or before July 16, 2003.

FOR FURTHER INFORMATION OR A COPY OF THE SUBMISSION CONTACT: Denise McLamb, Information Management Service (045A4), Department of Veterans Affairs, 810 Vermont Avenue, NW., Washington, DC 20420, (202) 273-8030 or FAX (202) 273-5981 or e-mail: denise.mclamb@mail.va.gov. Please refer to “OMB Control No. 2900-NEW (Pension and Parents DIC Participants)”.

Send comments and recommendations concerning any aspect of the information collection to VA's Desk Officer, OMB Human Resources and Housing Branch, New Executive Office Building, Room 10235, Washington, DC 20503, (202) 395-7316. Please refer to “OMB Control No. 2900-NEW (Pension and Parents DIC Participants)”.

SUPPLEMENTARY INFORMATION:

Title: VA Home Loan Guaranty Program Evaluation. (OMB Control No. 2900--NEW (VA Home Loan Guaranty Program Evaluation).)

Type of Review: New collection.

Abstract: The purpose of these surveys is to provide information for an evaluation that assesses the effectiveness and efficiency of VA Home Loan Guaranty Program for assisting eligible veterans and active duty military personnel to purchase, construct, repair, or improve a dwelling that they will own and occupy as their home; and to assess the adequacy, efficiency, and effectiveness of the Specially Adapted Housing Grant Program. These surveys will assist VA with the improvement of program operations and development of policy positions to support the needs and requirements of the veteran population.

An agency may not conduct or sponsor, and a person is not required to respond to a collection of information unless it displays a currently valid OMB control number. The Federal Register notice with a 60-day comment period soliciting comments on this collection of information was published on April 1, 2003, at pages 15797-15798.

Affected Public: Individuals or households.

Estimated Time Per Respondent and Annual Burden: 1,141 hours.

Estimated Average Burden Per Respondent: 30 minutes.

Frequency of Response: On occasion.

Estimated Number of Respondents: 2,281.

Dated: June 5, 2003.
By direction of the Secretary.
Martin L. Hill,
Acting Director, Records Management Service.

[FR Doc. 03-15077 Filed 6-13-03; 8:45 am]

BILLING CODE 8320-01-P